DEPARTMENT OF COMMERCE

National Oceanic and Atmospheric Administration

RIN 0648-XA312

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application contains all of the required information and warrants further consideration. This EFP application would exempt commercial fishing vessels from the following Federal American lobster regulations: (1) Gear specifications (including escape vents, ghost panel and maximum trap size; (2) trap limits; and (3) trap tags to allow 11 Federally permitted vessels to utilize a combined total of 35 modified lobster traps to catch juvenile lobsters, (30-50 mm carapace length), throughout lobster management area 3 (Area 3), in an attempt to understand patterns of larval dispersal and settlement. This proposed project would be conducted by the Atlantic Offshore Lobster Association (AOLA) in conjunction with scientists and the fishing industry.

Regulations under the Magnuson-Stevens Fishery Conservation and Management Act require publication of this notification to provide interested parties the opportunity to comment on applications for proposed EFPs.

DATES: Comments must be received on or before April 25, 2011.

ADDRESSES: Comments on this notice may be submitted by e-mail. The mailbox address for providing e-mail comments is NERO.EFP@noaa.gov. Include in the subject line “Comments on AOLA Lobster EFP.” Written comments should be sent to Patricia A. Kurkul, Regional Administrator, NMFS, NE Regional Office, 55 Great Republic Drive, Gloucester, MA 01930. Mark the outside of the envelope “Comments on AOLA Lobster EFP.”

• Fax: (978) 281-9135.

FOR FURTHER INFORMATION CONTACT: Carol Shé, Fishery Policy Analyst, 978-282-8464, Carol.She@noaa.gov.

SUPPLEMENTARY INFORMATION: AOLA submitted a complete application for an EFP on March 11, 2011, to conduct commercial fishing activities that the regulations would otherwise restrict. This EFP application would exempt commercial fishing vessels from the following Federal regulations: gear specifications (including escape vents, ghost panel and maximum trap size) specified under 50 CFR 697.21(c)(4), 697.21(d) and 697.21(e)(2)(ii); trap limits specified under § 697.19(b)(5); and trap tags specified under § 697.19(f). The EFP would authorize 11 Federally permitted vessels to be exempted from parts of the Federal lobster regulations to allow the participating vessels to fish modified lobster traps, exceed trap limits, and deploy the modified traps without trap tags in an attempt to formalize the anecdotal presence of young lobsters. Some lobster scientists believe that larvae will only survive in the inshore fishery due to the depths and available light, and that there are no small lobsters offshore; however, data resulting from this project are intended to determine whether there are new lobster nursery grounds offshore.

This project, including the lobster handling protocols, was initially developed in consultation with University of New Hampshire scientists. To the greatest extent practicable, these handling protocols are designed to avoid unnecessary adverse environmental impact on lobsters involved in this project, while achieving the data collection objectives of this project. AOLA will work in conjunction with scientists and the fishing industry to build and test various trap modifications to determine the optimal design for use in offshore waters. The modified gear may exceed the Federal maximum trap size restrictions, include smaller wire mesh sizes, modified entrance heads/rings, closed or modified escape vents, and cobble acting as shelter material. The deployment of the experimental traps throughout lobster management area 3 (Area 3) statistical areas 464, 522, 561, 562, 525, 526, 533, 537, 613, 616, and 622, would begin in April 2011 and extend through August 2012. AOLA would submit progress reports in December 2011 and September 2012, since the project would exceed 1 year. Participating vessels would include between one and three experimental lobster traps as part of a commercial lobster trap trawl deployed under routine industry conditions. Modified traps would remain in the water for up to 6 consecutive months (182 days), being hauled approximately weekly following the normal fishing schedule of the participating vessels. The gear would be compliant with the Atlantic Large Whale Take Reduction Plan; therefore, impacts to protected resources would be negligible. Subsequently, AOLA will provide data necessary to assist in better future management of the lobster fishery.

The activities occurring in Area 3 statistical areas are not anticipated to have any more environmental impacts than those already occurring as part of a commercial lobster trap trawl deployed under usual industry conditions. Impacts to the lobster resource would be negligible. Given the small mesh and entrance heads, the modified gear is not expected to catch legal lobsters. Any sublegal lobsters caught would briefly be retained onboard only for the purposes of recording their size, sex, and presence of shell disease, before being promptly released back into the ocean. There should be minimal impact to bycatch species due to the use of small mesh and small entrance heads and, in addition, all bycatch species hauled from modified gear would be returned promptly to the ocean. Likewise, there would not be significant impacts on benthic habitats. As the gear would be compliant with the Atlantic Large Whale Take Reduction Plan and would be deployed under usual industry conditions, impacts to protected resources would be negligible.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 4, 2011.
Margo Schulze-Haugen,
Acting Director, Office of Sustainable Fisheries, National Marine Fisheries Service.

[FR Doc. 2011-8451 Filed 4-7-11; 8:45 am]

BILLING CODE 3510-22-P